DEPARTMENT OF ENERGY

Office of Energy Efficiency and Renewable Energy

[Docket No. EERE-2012-BT-BC-0030]

DOE Participation in Development of the International Energy Conservation Code

AGENCY: Office of Energy Efficiency and Renewable Energy, Department of Energy.

ACTION: Notice and request for comment.

SUMMARY: The U.S. Department of Energy (DOE) participates in the process administered by the International Code Council (ICC) to develop the International Energy Conservation Code (IECC). DOE's participation in this process was outlined in a previous Federal Register notice published on April 19, 2013. As a participant in the IECC development process, DOE intends to submit public comments on actions taken on DOE's code change proposals and technical analysis at the ICC Committee Action Hearings held in Dallas, Texas in April 2013. DOE is requesting stakeholder feedback on its draft public comments prior to submission to the ICC. This notice outlines the process by which DOE will seek stakeholder feedback and submit public comments to the ICC.

DATES: Comments on DOE's draft public comments to the ICC must be provided by June 30, 2013.

ADDRESSES: You may submit comments, identified by any of the following methods:

• Email: EnergyCodeDevelopment2012BC0030@ee.doe.gov. Include “IECC public comment” in the subject line of the message.

• Postal Mail: Mr. Jeremiah Williams, U.S. Department of Energy, Office of Energy Efficiency and Renewable Energy, Building Technologies Office, Mailstop EE-2J, 1000 Independence Avenue SW., Washington, DC 20585-0121, Please submit one signed paper original.

• Hand Delivery/Courier: Mr. Jeremiah Williams, U.S. Department of Energy, Office of Energy Efficiency and Renewable Energy, 950 L'Enfant Building, Room 6052, 950 L'Enfant Plaza, Washington, DC 20024

• Instructions: All submissions must include the agency name, Department of Energy, and “IECC public comments” for these draft public comments.

FOR FURTHER INFORMATION CONTACT: Jeremiah Williams, U.S. Department of Energy, Office of Energy Efficiency and Renewable Energy, Building Technologies Office, Mailstop EE-2J, 1000 Independence Avenue SW., Washington, DC 20585-0121, Telephone: (202) 287-1941, Email: jeremiah.williams@ee.doe.gov.

For legal issues contact Kavita Vaidyanathan, U.S. Department of Energy, Office of the General Counsel, Forrestal Building, Mailstop GC-71, 1000 Independence Ave. SW., Washington, DC 20585, Telephone: (202) 586-0669, Email: kavita.vaidyanathan@hq.doe.gov.

SUPPLEMENTARY INFORMATION:

I. Introduction

The U.S. Department of Energy (DOE) supports the International Energy Conservation Code (IECC) by participating in the code development administered by the International Code Council (ICC). DOE's participation in this process was outlined in a previous Federal Register notice published on April 19, 2013 (78 FR 23550). As a participant in the IECC development process, DOE submitted code change proposals for the IECC, and recently defended its proposals at the April 2013 ICC Committee Action Hearings (results are available at http://www.iccsafe.org/cs/codes/Pages/Dallas-B-Results.aspx). The next step in the current IECC development cycle is for participants to submit public comments on actions taken at the recent ICC Committee Action Hearings in anticipation of the ICC Public Comment Hearings to be held in October 2013.

A. Statutory Requirements

Title III of the Energy Conservation and Production Act, as amended (ECPA), establishes requirements related to energy conservation standards for new buildings (42 U.S.C. 6831-6837). Section 307(b) of ECPA directs DOE to support voluntary building energy codes by periodically reviewing the technical and economic basis of the voluntary building codes, recommending amendments to such codes, seeking adoption of all technologically feasible and economically justified energy efficiency measures, and otherwise participate in any industry process for review and modification of such codes (42 U.S.C. 6836(b)).

B. Background

The IECC serves as a model building energy code and is adopted by many U.S. states, territories, the District of Columbia, and localities across the nation. Development of the IECC is administered by the ICC, with revisions taking place every three years under the ICC governmental consensus process. Any party can propose changes to the IECC with proposed code changes subject to the bylaws, policies and procedures as defined by the ICC. Code change proposals are discussed and voted on at the ICC Committee Action Hearings. The next step in the IECC development cycle is for stakeholders to submit public comments on actions taken at the recent ICC Committee Action Hearings in anticipation of the ICC Public Comment Hearings.

ICC's code development process is described at http://www.iccsafe.org/cs/codes/pages/default.aspx.

II. DOE Public Comments for the IECC

Code change proposals for the IECC were heard at the ICC Committee Action Hearings conducted April 21-30, 2013 in Dallas, Texas. Continuing its participation in the IECC development process, DOE has drafted public comments on its code change proposals and technical analysis for submission to the ICC. DOE is requesting stakeholder feedback on its draft public comments prior to submission to the ICC. The process by which DOE developed its draft public comments, as well as instructions for how to submit feedback, is described in the following sections.

DOE Development of Public Comments

Based on actions taken at the ICC Committee Action Hearings, DOE has identified actions where DOE believes a committee action should be reconsidered for its code change proposals and technical analysis, and drafted associated comments. DOE comments are currently available for public review at http://www.energycodes.gov/development. DOE will not provide responses to individual comments, but will consider any and all comments timely submitted in developing final public comments prior to submission to the ICC. Stakeholder feedback received will be available at http://www.regulations.gov/#!docketDetail;D=EERE-2012-BT-BC-0030. DOE will submit final public comments to ICC on or before the ICC July 15, 2013 deadline.

DOE's Participation at the IECC Public Comment Hearings

At ICC hearings, DOE communicates its position on code change proposals and associated public comments as follows: DOE will defend its proposals and public comments. While DOE cannot enter into joint code change proposals or public comments (outside of proposals or public comments submitted jointly with another federal agency), DOE intends to support efficiency concepts from the perspective of its own analysis. DOE may also recognize a code change proposal or public comment to the extent that the code change proposal or provisions within the proposal are the same as a DOE code change proposal or provisions within a DOE code change proposal. Again, however, such an indication would not constitute an endorsement of a proposal or associated public comment.

Ex Parte Communications

DOE anticipates that it or its contractors may be contacted regarding its code change proposals and associated public comments prior to or during the IECC Public Comment Hearings. While DOE code change proposals and public comments for the IECC are not regulations, DOE will follow ex parte communication policy for such communications. Guidance on ex parte communications was published on January 21, 2009 (74 FR 4685) and can be found at http://energy.gov/gc/downloads/guidance-ex-parte-communications. Note that such communications will be reflected in the public docket consistent with the ex parte guidance.

DOE maintains an organizational membership with the ICC. As an ICC governmental member, DOE will exercise voting privileges as defined by the guiding ICC rules and procedures.

III. Public Participation in the Development of DOE Public Comments

The public is invited to submit comments on DOE's draft public comments. Comments must be provided by the date specified in the DATES section of this notice using any of the methods described in the ADDRESSES section of this notice. If you submit information that you believe to be exempt by law from public disclosure, you should submit one complete copy, as well as one copy from which the information claimed to be exempt by law from public disclosure has been deleted. DOE is responsible for the final determination with regard to disclosure or nondisclosure of the information and for treating it accordingly under the DOE Freedom of Information regulations at 10 CFR 1004.11.

Issued in Washington, DC, on May 30, 2013.
Roland Risser,
Director, Building Technologies Office, Energy Efficiency and Renewable Energy.

[FR Doc. 2013-13308 Filed 6-4-13; 8:45 am]

BILLING CODE 6450-01-P